DEPARTMENT OF THE INTERIOR

Bureau of Indian Affairs

[245A2100DD/AAKC001030/A0A501010.999900]

Rate Adjustments for Indian Irrigation Projects; Correction

AGENCY: Bureau of Indian Affairs, Interior.

ACTION: Notice; correction.

SUMMARY: The Bureau of Indian Affairs (BIA) published a document in the Federal Register of February 8, 2024, concerning BIA's request for comments on proposed assessment rates to recover the costs to administer, operate, maintain, and rehabilitate its irrigation projects. The document contained an incorrect date.

FOR FURTHER INFORMATION CONTACT: Leslie Underwood, Program Specialist, Division of Water and Power, Office of Trust Services, (406) 657-5985.

SUPPLEMENTARY INFORMATION:

Correction

In the Federal Register of February 8, 2024, FR Doc. 2024-02596, on page 8708, in the second column, correct the answer to the question “When will you put the rate adjustments into effect?” to read:

We will put the rate adjustments into effect for CY 2025.

Dated: March 29, 2024.
George Patton,
Regulatory Documentation Specialist.

[FR Doc. 2024-07157 Filed 4-3-24; 8:45 am]

BILLING CODE 4337-15-P